ENVIRONMENTAL PROTECTION AGENCY

40 CFR Parts 63, 258, 260, 261, 264, 265, 266, 270, 271, and 279

[FRL-7439-9]

RIN 2050—AE41

Waste Management System; Testing and Monitoring Activities; Reopening of Comment Period for the Proposed Methods Innovation Rule (MIR)

AGENCY: Environmental Protection Agency.

ACTION: Proposed rule; reopening of comment period.

SUMMARY: The Environmental Protection Agency (EPA) is extending by an additional 60 days the comment period on its proposed rule (October 30, 2002 at 67 FR 66251) titled Methods Innovation Rule (MIR) and Notice of Data Availability that announced the availability of the new RCRA Waste Sampling Draft Technical Guidance. The original comment period announced in the proposal and notice was scheduled to end on December 30, 2002. Today's notice further extends the comment period on the proposed Methods Innovation Rule and RCRA Waste Draft Technical Guidance until February 28, 2003.

DATES: Written comments on the proposed MIR, or RCRA Waste Sampling Draft Technical Guidance must be submitted on or before February 28, 2003. Comments postmarked after the close of the comment period will be stamped “late” and may or may not be considered by the Agency.

ADDRESSES: Commenters must send an original and two copies of their comments referencing docket number to: EPA Docket Center (EPA/DC), Office of Solid Waste (5305T), U.S. Environmental Protection Agency Headquarters (EPA, HQ), Ariel Rios Building, 1200 Pennsylvania Ave., NW., Washington, DC 20460. Comments may also be submitted electronically to: rcra-docket@epa.gov. Comments in electronic format should also be identified by the docket number Docket ID No. RCRA-2002-0025. All electronic comments must be submitted as an ASCII file avoiding the use of special characters and any form of encryption.

You may access this Federal Register document electronically through the EPA Internet under the “Federal Register” listings at http://www.epa.gov/fedrgstr/. You may view and download from the Internet the proposed rule and selected support materials at http://www.epa.gov/epaoswer/hazwaste/test/sw846.htm. Update IIIB of SW-846 can also be accessed on-line at http://epa.gov/epaoswer/hazwaste/test/up3b.htm.

An electronic version of the public docket is available through EPA's electronic public docket and comment system, EPA Dockets. You may use EPA Dockets at http://www.epa.gov/edocket/ to submit or view public comments, access the index listing of the contents of the official public docket, and to access those documents in the public docket that are available electronically.

Once in the system, select “search,” then key in the appropriate docket identification number. You may also view and download docket information from the Internet at: http://www.epa.gov/SW-846.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

Commenters should not submit electronically any confidential business information (CBI). An original and two copies of CBI must be submitted under separate cover to: Regina Magbie, RCRA CBI Document Control Officer, EPA Office of Solid Waste, 2800 Crystal Drive, 7th Floor , Cube 16, Washington, DC 22202. Public comments and supporting materials are available for viewing in the EPA Docket Center, located at 1301 Constitution Ave, NW Room B102, Washington, DC 20460. The RIC is open from 8:30 a.m. to 4:30 p.m., Monday through Friday, excluding federal holidays. To review docket materials, it is recommended that the public make an appointment by calling (202) 566-0270. The public may copy a maximum of 266 pages from any regulatory document at no cost. Additional copies over 266 pages will cost $0.15 per page.

FOR FURTHER INFORMATION CONTACT: For general information, contact the RCRA Hotline at (800) 424-9346 or TDD (800) 553-7672 (hearing impaired). In the Washington, DC, metropolitan area, call (703) 412-9810 or TDD (703) 412-3323. For more detailed information on specific aspects of this rulemaking, contact Kim Kirkland (5307W), Office of Solid Waste, U.S. Environmental Protection Agency, 1200 Pennsylvania Ave, SW., Washington, DC 20460, (703) 308-8885, kirkland.kim@epa.gov.

SUPPLEMENTARY INFORMATION: On October 30, 2002 (67 FR 210), EPA proposed to amend a variety of testing and monitoring requirements throughout the Resource Conservation and Recovery Act (RCRA) regulations. As noted in the proposal, the Agency wants to allow more flexibility when conducting RCRA-related sampling and analysis, by removing unnecessary required uses of methods found in “Test Methods for Evaluating Solid Waste, Physical/Chemical Methods,” also known as “SW-846,” and only retaining the requirement to use SW-846 methods when the method is the only one capable of measuring a particular property (i.e., it is used to measure a required method-defined parameter). This is an important step towards a performance-based measurement system (PBMS), as part of the Agency's efforts towards Innovating for Better Environmental Results. In addition, we proposed to: Withdraw the reactivity method guidelines from SW-846 Chapter Seven; amend the ignitability and corrosivity hazardous waste characteristic regulations by clarifying the use of certain methods; incorporate by reference Update IIIB to SW-846; add Method 25A for analyses conducted in support of certain RCRA air emission standards; and remove a confidence limit requirement for certain feedstream analyses conducted under the National Emission Standards for Hazardous Air Pollutants (NESHAP). Simultaneously, the Agency also announced the availability of a new guidance document for public comment entitled “RCRA Waste Sampling Draft Technical Guidance.” The Agency believes the new guidance when used should make it easier and more cost effective to comply with affected regulations, without compromising human health or environmental protection. By extending the comment period to February 28, 2003, we are accommodating a request by several parties for additional time to prepare extensive relevant comments.

Dated: January 8, 2003.
Robert Springer,
Director of the Office of Solid Waste and Emergency Response.

[FR Doc. 03-957 Filed 1-15-03; 8:45 am]

BILLING CODE 6560-50-P